DEPARTMENT OF TRANSPORTATION

Federal Aviation Administration

Notice of Submission Deadline To Amend Slot Records for LaGuardia Airport

AGENCY: Department of Transportation, Federal Aviation Administration (FAA).

ACTION: Notice of submission deadline.

SUMMARY: Under this notice, the FAA announces the submission deadline of August 12, 2014, for requests to amend slot records (adjust slot times and arrival/departure designations) at New York LaGuardia Airport (LGA).

DATES: Schedules must be submitted no later than August 12, 2014.

ADDRESSES: Schedules may be submitted by mail to the Slot Administration Office, AGC-200, Office of the Chief Counsel, 800 Independence Ave., SW., Washington, DC 20591; by facsimile to: 202-267-7277; or by email to: 7-AWA-slotadmin@faa.gov.

FOR FURTHER INFORMATION CONTACT: Robert Hawks, Office of the Chief Counsel, Federal Aviation Administration, 800 Independence Avenue SW, Washington, DC 20591; telephone number: 202-267-7143; fax number: 202-267-7971; email: rob.hawks@faa.gov.

SUPPLEMENTARY INFORMATION: Scheduled operations at LGA currently are limited by FAA Order until a final Slot Management and Transparency Rule for LaGuardia Airport, John F. Kennedy International Airport, and Newark Liberty International Airport (RIN 2120-AJ89) becomes effective but not later than October 29, 2016.¹ The LGA Order permits the leasing or trading of slots through the expiration date of the Order, but this mechanism limits a carrier's ability to permanently adjust its slot base through trades with another carrier, as is common at Ronald Reagan Washington National Airport (DCA). Additionally, the Order permanently allocates slots, unlike the EWR and JFK Orders that allocate slots and permit slot retimings on a seasonal basis, subject to availability of slots through a transparent process generally following the International Air Transport Association (IATA) Worldwide Slot Guidelines (WSG).²

¹ Operating Limitations at New York LaGuardia Airport, 71 FR 77854 (Dec. 27, 2006) as amended by 79 FR 17222 (Mar. 27, 2014).

² See 79 FR 16857 (Mar. 26, 2014) (EWR Order); 79 FR 16854 (Mar. 26, 2014) (JFK Order).

Recently the FAA has received a number of requests to retime LGA slots and change arrival/departure designations. Although the FAA has received similar requests for slot adjustments on a seasonal basis since the LGA Order became effective, the FAA has noticed an increase in the volume of requests and the number of carriers seeking accommodation. Some requests have been the same season after season, indicating that carriers may desire adjustments that remain in effect until the expiration of the LGA Order. Historically, the FAA has evaluated and confirmed these adjustment requests, consistent with the LGA Order and prior FAA practice, on the basis of whether they have an operational benefit or a neutral effect on operations. Since 2007, many of these adjustments have improved LGA operational performance.

To evaluate LGA slot adjustments for the upcoming 2014-15 winter IATA scheduling season in a fair and transparent manner, the FAA is establishing a deadline of August 12, 2014, for carriers to request retiming and changes to the arrival/departure designation of currently-held slots. Carriers should provide slot information in sufficient detail including, at minimum, the operating carrier, slot number, scheduled time of arrival or departure, frequency, arrival/departure designation, and effective dates. Consistent with past practice, the FAA will evaluate requests in light of the overall operational impact at LGA and whether the requests improve or have a neutral effect on operational performance. The FAA will consider both short-term adjustments and adjustments through the expiration of the LGA Order. In addition, if the FAA receives conflicting requests for retiming, the FAA will give priority to new entrants and limited incumbents, consistent with the LGA Order and FAA practice. The terms of the LGA Order prevent the FAA from allocating new slots in hours at or above the slot limit.

The FAA will evaluate requests received by August 12, 2014, and intends to respond to the requests no later than August 19, 2014. The FAA cannot guarantee that all requests to adjust slots will be confirmed. Requests received after August 12, 2014, will be evaluated after timely requests in the order they are received. As permitted under paragraph A.5 of the LGA Order, carriers are encouraged to engage in slot trades, when possible, to achieve desired timings.

Issued in Washington, DC, on July 23, 2014.
Mark W. Bury,
Assistant Chief Counsel for International Law, Legislation, and Regulations.

[FR Doc. 2014-17662 Filed 7-24-14; 4:15 pm]

BILLING CODE 4910-13-P